DEPARTMENT OF ENERGY

Federal Energy Regulatory Commission

[Project No. 3409-032]

Boyne USA, Inc.; Notice Soliciting Scoping Comments

Take notice that the following hydroelectric application has been filed with the Commission and is available for public inspection.

a. Type of Application: Subsequent License.

b. Project No.: P-3409-032.

c. Date filed: January 31, 2020.

d. Applicant: Boyne USA, Inc.

e. Name of Project: Boyne River Hydroelectric Project (Boyne River Project).

f. Location: The existing project is located on the Boyne River in Boyne Valley Township, Charlevoix County, Michigan.

g. Filed Pursuant to: Federal Power Act 16 U.S.C. 791(a)-825(r).

h. Applicant Contact: Randall Sutton, Boyne Mountain Resort Area Manager, Boyne USA, Inc. P.O. Box 19 Boyne Falls, MI 49713; (231) 549-6076; rsutton@boynemountain.com.

i. FERC Contact: Patrick Ely at patrick.ely@ferc.gov or (202) 502-8570.

j. Deadline for filing scoping comments: September 10, 2020.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3409-032.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Project Description: The Boyne River Project consists of a reservoir with a gross storage capacity of 356 acre-feet and a surface area of 68 acres at a pool elevation of 636.8 feet National Geodetic Vertical Datum 1988. The project includes: (a) An existing 610-foot-long by 30-foot-high (left) earth-fill dam embankment and a 180-foot-long by 18-foot-high (right) earth-fill dam embankment; (b) a 132-foot-long by 50 to 72-foot-wide by 12-foot-deep concrete lined headrace channel; (c) a 35-foot-long concrete fixed crest spillway that discharges to a transverse collection gallery, and a 77-foot-long by 5-foot-diameter concrete discharge pipe that carries flow from the collection gallery to a stilling basin; (d) a 20-foot-long by 8.3-foot-wide to 16-foot-wide by 4-foot-deep stilling basin; (e) 6-foot wide by 7-foot 9-inches high sluice gate spillway; (f) a 72-foot-long by 5-foot-diameter concrete pipe that carries the flow from the sluice gate spillway to the stilling basin; (g) a 74-foot-long steel penstock consisting of two 5-foot-diameter and one 7-foot-diameter sections; (h) a 75-foot-long by 18-inch-diameter steel pipes that make up the auxiliary spillway; (i) a 715-foot long by 100-foot-wide emergency overflow spillway area; and (j) a 24-foot-long by 24-foot-wide concrete powerhouse with a single 250-kilowatt propeller turbine. The project also consists of a 100-foot-long, 2400-volt underground transmission line connected to a pole-mounted transformer and a 2.34-mile-long, 7.2/12.5-kilovolt overhead transmission line from the pole-mounted transformer to the Boyne Mountain Resort side of the Consumers Energy utility primary metering cabinet. The last 1,300 feet +/− at the Boyne Mountain Resort end is also buried. The project generates about 661 megawatt-hours annually.

m. In addition to publishing the full text of this notice in the Federal Register, the Commission provides all interested persons an opportunity to view and/or print the contents of this notice, as well as other documents in the proceeding (e.g., scoping document) via the internet through the Commission's Home Page (http://www.ferc.gov) using the eLibrary link. Enter the docket number excluding the last three digits in the docket number field to access the document (P-3409). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

n. You may also register online at https://ferconline.ferc.gov/FERCOnline.aspx to be notified via email of new filings and issuances related to this or other pending projects. For assistance, contact FERC Online Support.

o. Scoping Process.

The Commission staff intends to prepare a single Environmental Assessment (EA) for the project in accordance with the National Environmental Policy Act. The EA will consider both site-specific and cumulative environmental impacts and reasonable alternatives to the proposed action.

At this time, we do not anticipate holding on-site public or agency scoping meetings. Instead, we are soliciting your comments and suggestions on the preliminary list of issues and alternatives to be addressed in the EA, as described in scoping document 1 (SD1), issued August 11, 2020.

Copies of the SD1 outlining the subject areas to be addressed in the EA were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: August 11, 2020.
Kimberly D. Bose,
Secretary.

[FR Doc. 2020-17916 Filed 8-14-20; 8:45 am]

BILLING CODE 6717-01-P